ENVIRONMENTAL PROTECTION AGENCY

[FRL-6993-2]

Science Advisory Board; Notification of Public Advisory Committee Meetings

Pursuant to the Federal Advisory Committee Act, Public Law 92-463, notice is hereby given of four meetings of the Surface Impoundments Study Subcommittee (SISS) of the US EPA Science Advisory Board's (SAB) Environmental Engineering Committee (EEC). The meetings are open to the public, however, seating is limited and available on a first come basis. Important Notice: Documents that are the subject of SAB reviews are normally available from the originating EPA office and are not available from the SAB Office—information concerning availability of documents from the relevant Program Office is included below.

1. Surface Impoundments Study Subcommittee (SISS)—First Teleconference Meeting—June 26, 2001

The Surface Impoundments Study Subcommittee (SISS) will meet by conference call from noon-2 pm Eastern time on June 26, 2001. Members of the public wishing to participate in the teleconference must make arrangements with Ms. Mary Winston by noon the Wednesday before the meeting. Instructions about how to participate in the conference call can be obtained by calling Ms. Mary Winston, Management Assistant, at (202) 564-4538, or via e-mail at: winston.mary@epa.gov.

The SISS welcomes written public comment and will accept oral comments during a portion of this conference call. The comment period will be limited to approximately 30 minutes in total with about five minutes allowed for per speaker. Additional opportunities for public comment will provided at the July 19 and August 27 conference call meetings as well as the September 17-19, 2001 face-to-face meeting.

Purpose of the Meeting—The purpose of the conference call meeting is to allow the Committee and the Agency to discuss and refine, if necessary, the charge for the review of the Surface Impoundments Study and to make plans for the face-to-face meeting on September 17-19, 2001.

Availability of Materials and Contact Information—See below.

2. Surface Impoundments Study Subcommittee (SISS)—Teleconference Meeting—July 19, 2001

The Surface Impoundments Study Subcommittee (SISS) will meet by conference call from 1-3 pm Eastern time on July 19, 2001. Members of the public wishing to participate in the teleconference must make arrangements with Ms. Mary Winston by noon the Wednesday before the meeting. Instructions about how to participate in the conference call can be obtained by calling Ms. Mary Winston, Management Assistant, at (202) 564-4538, or via e-mail at: winston.mary@epa.gov.

The SISS welcomes written public comment and will accept oral comments during a portion of this conference call. The comment period will be limited to approximately 30 minutes in total with about five minutes allowed for per speaker. Additional opportunities for public comment will be provided at the August 27 conference call meeting as well as the September 17-19, 2001 face-to-face meeting.

Purpose of the Meeting—The purpose of the conference call meeting is to allow the Subcommittee and the Agency to continue preparations for the face-to-face meeting. The chair plans to make writing assignments to the panelists and confirm that they have the materials necessary to complete them.

Availability of Materials and Contact Information—See below.

3. Surface Impoundments Study Subcommittee (SISS)—Teleconference Meeting—August 27, 2001

The Surface Impoundments Study Subcommittee (SISS) will meet by conference call from 1-3 pm Eastern time on August 27, 2001. Members of the public wishing to participate in the teleconference must make arrangements with Ms. Mary Winston by noon the Wednesday before the meeting. Instructions about how to participate in the conference call can be obtained by calling Ms. Mary Winston, Management Assistant, at (202) 564-4538, or via e-mail at: winston.mary@epa.gov.

The SISS welcomes written public comment and will accept oral comments during a portion of this conference call. The comment period will be limited to approximately 30 minutes in total with about five minutes allowed for per speaker. Additional opportunities for public comment will provided at the September 17-19, 2001 face-to-face meeting.

Purpose of the Meeting—The purpose of the conference call meeting is to allow the Subcommittee and the Agency to complete preparations for the face-to-face meeting. Panelists will discuss their preliminary, individual writings and accept comments on them.

Availability of Materials and Contact Information—See below.

4. Surface Impoundments Study Subcommittee (SISS)—September 17-19, 2001

The Surface Impoundments Study Subcommittee (SISS) will meet Monday September 17 through Wednesday September 19, 2001, room 6530 of the Ariel Rios Building, 1200 Pennsylvania Ave., NW., Washington, DC. The meeting will convene at 9:30 Eastern time on Monday September 17 and will adjourn no later than 3:00 pm Wednesday September 19, 2001.

Purpose of the Meeting—The Subcommittee will review the Office of Solid Waste's Surface Impoundments Study and plans to prepare a draft report of the consensus findings, conclusions and recommendations resulting from that review. The Subcommittee may schedule a subsequent public conference call meeting to approve final language of its draft report before submitting it to the Environmental Engineering Committee for consideration. If so, that will be announced separately.

Background: Under the Resource Conservation and Recovery Act (RCRA), EPA allowed land placement of “decharacterized” wastes that were formerly characteristic hazardous wastes managed in wastewater systems, but had been treated or diluted to remove the characteristic hazard. The Land Disposal Program Flexibility Act of 1996 (LDPFA) required that EPA study the two types of land placement of these wastes: underground injection, and placement (storage, treatment or disposal) in surface impoundments. This peer review concerns only the surface impoundment waste management technique.

The study of surface impoundments is also the subject of other regulatory and judicial developments. For certain types of facilities EPA was required to study human health risks from air inhalation of 105 chemical constituents present in surface impoundments.

Industrial Surface Impoundments in the United States is the report that discusses EPA's estimated risks to human health and the environment that may be posed by managing industrial nonhazardous wastes in surface impoundments. It provides estimates of cancer and non-cancer human health risks for individuals (receptors) who may be exposed to releases from surface impoundments used to manage wastewaters and wastewater treatment sludges, a screening analysis of other indirect pathway human health risks, and a screening analysis of the potential risks to ecological receptors. EPA will use the risk results, along with the analysis of existing regulatory and nonregulatory programs designed to address the risks (described in Chapter 4 of the report) to decide whether, and if so, how, to apply the land disposal restrictions or take other appropriate actions to address risks found.

In 1997 a subcommittee of the Environmental Engineering Committee Subcommittee reviewed the draft structure for this study. The Subcommittee commented on: a) the technical merits of the overall study structure; b) the technical merits of the proposed risk assessment; and c) the involvement of technical experts, affected facilities and the public at critical points in the study's design and implementation. This report (EPA-SAB-EEC-98-009) can be found in the Fiscal Year 1998 Reports section of the SAB's website (www.epa.gov/sab).

Charge to the Committee—The full charge will be posted at the SAB's website (www.epa.gov/sab). In summary, the Subcommittee is charged to address the following questions:

(1)(a) Does the Science Advisory Board believe that the general methodology we chose for developing our risk analysis was appropriate for the policy questions posed in the statute and consent decree.

(b) Regarding the overall study implementation, from design through sample selection, data collection and analysis, what areas of strength do you see in the overall methodology, and what areas of potential improvement or additional analysis do you recommend?

(c) Did EPA adequately characterize the risks? Are the risk analysis and findings transparent? That is, are they explicit in:

• Describing the assessment approach, assumptions, extrapolations and use of models

• Describing plausible alternative assumptions

• Identifying data gaps

• Distinguishing science from policy

• Describing uncertainty, and

• Describing the relative strength of the assessment?

(d) Please provide your assessment of the accuracy of EPA's overall study conclusions regarding risks to human health and the environment. Were the conclusions either false positive or false negative conclusions (finding risks of greater or lesser magnitude than the risks that likely exist)?

(2)(a) Should EPA have performed a more in-depth evaluation of abnormal operating condition events? If so, what methods or approaches would the SAB recommend regarding collecting more reliable data, and modeling the probability and impacts of such events?

(3)(a) For the indirect human health and ecological screening-level analyses, in the SAB's view, do the results point to areas of potential future research? If so, do you have recommendations on prioritizing future studies in these areas?

(b) Based on the screening-level estimates we developed for other indirect and ecological risks, did it appear that we overlooked potential problem areas?

(c) Did we clearly describe and properly characterize the other indirect human health and ecological risk analyses?

(4)(a) Is it likely that EPA's data imputation protocol, or “surrogate data protocol” for imputing waste composition data markedly affected the ultimate conclusions regarding potential risks? If so, in what direction did the protocol probably bias the conclusions?

(b) Should EPA have used any other approaches for qualifying or presenting the data?

(c) Was using the assumption that a chemical could be present up to the detection limit, when it was reported as being present below a detection limit, a reasonable concentration to choose for risk screening purposes?

(d) Did the EPA-generated default detection limit protocol provide reasonable approximations of likely detection limits encountered in the field by the facilities, when the detection limits were not reported in the laboratory analysis?

(e) Do the results that are based on imputed/detection limit data suggest that further analysis is needed?

(5)(a) Although there are limitations of performing the comparison of survey and field sampling waste composition data, what is the SAB's view on EPA's conclusions about the accuracy of the reported survey data on chemical constituent concentrations/quantities?

(b) What is the SAB's view on EPA's conclusion on the potential incomplete reporting of chemical constituents present?

(c) Would the SAB recommend alternate approaches, in order to obtain the best possible information regarding the exact chemical constituents present, given the same budget and time constraints?

(6)(a) Would the SAB recommend another approach for representing the groundwater source term, for example, performing a bounding analysis, using the sludge data, where available, to represent an upper bound of the groundwater source term, and using wastewater data as the lower bound, for those chemical constituents for which this situation may be an issue?

(b) Compared to other sources of uncertainty in the groundwater and groundwater to surface water pathway analyses, how large a source of uncertainty does the decision to use wastewater composition data appear to introduce into the overall study conclusions?

Availability of Materials—The background materials provided to the Subcommittee are available at http://www.epa.gov/epaoswer/hazwaste/ldr/icr/ldr-impd.htm. A limited number of paper copies can be obtained by contacting Shannon Sturgeon, U.S. Environmental Protection Agency, Office of Solid Waste (5307W), U.S. Environmental Protection Agency, 1200 Pennsylvania Avenue, NW., Washington, DC 20460. Ms. Sturgeon may also be contacted at 703 605 0509 or via e-mail at sturgeon.sharon@epa.gov. The draft meeting agenda may be obtained from Ms. Mary Winston, Management Assistant, at (202) 564-4538, or via e-mail at:winston.mary@epa.gov approximately two weeks before the meeting.

FOR FURTHER INFORMATION: Any member of the public wishing further information concerning this meeting or wishing to submit brief oral comments (10 minutes or less) must contact Ms. Kathleen White, Designated Federal Officer, Science Advisory Board (1400A), U.S. Environmental Protection Agency, 1200 Pennsylvania Avenue, NW., Washington, DC 20460; telephone (202) 564-4559; fax (202) 501-0582; or via e-mail at conway.kathleen@epa.gov. Requests for oral comments must be in writing (e-mail, fax or mail) and received by Ms. White no later than noon Eastern Standard Time on the Wednesday before the scheduled meeting.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For these teleconference meetings, opportunities for oral comment have been expanded to no more than five minutes per speaker and no more than thirty minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to Ms. White at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Ms. Winston at least five business days prior to the meeting so that appropriate arrangements can be made.

Dated: May 31, 2001.
John R. Fowle, III,
Acting Staff Director, Science Advisory Board.

[FR Doc. 01-14475 Filed 6-7-01; 8:45 am]

BILLING CODE 6560-50-P